DEPARTMENT OF THE INTERIOR

Fish and Wildlife Service

[FWS-R9-FHC-2009-N197; 94240-1341-9BIS-N5]

Aquatic Nuisance Species Task Force Meeting

AGENCY: Fish and Wildlife Service, Interior.

ACTION: Notice of meeting.

SUMMARY: This notice announces a meeting of the Aquatic Nuisance Species (ANS) Task Force. The meeting is open to the public. The meeting topics are identified in the SUPPLEMENTARY INFORMATION section.

DATES: The ANS Task Force will meet from 8 a.m. to 5 p.m. on Wednesday, November 4 through Thursday, November 5, 2009.

ADDRESSES: The ANS Task Force meeting will take place at the National Oceanic and Atmospheric Administration, 1315 East West Highway, Silver Spring, MD 20910 (301-713-0174). You may inspect minutes of the meeting at the office of the Chief, Division of Fisheries and Aquatic Resource Conservation, U.S. Fish and Wildlife Service, 4401 North Fairfax Drive, Arlington, VA 22203, during regular business hours, Monday through Friday. You may also view the minutes on the ANS Task Force Web site at: http://anstaskforce.gov/meetings.php.

FOR FURTHER INFORMATION CONTACT: Susan Mangin, ANS Task Force, Executive Secretary, at (703) 358-2466, or by e-mail at Susan_Mangin@fws.gov.

SUPPLEMENTARY INFORMATION: Pursuant to section 10(a)(2) of the Federal Advisory Committee Act (5 U.S.C. App.), this notice announces meetings of the ANS Task Force. The ANS Task Force was established by the Nonindigenous Aquatic Nuisance Prevention and Control Act of 1990.

Topics that the ANS Task Force plans to cover during the meeting include: the ANS Task Force Strategic Plan, Regional Panel issues and recommendations, the Quagga-Zebra Mussel Action Plan for Western U.S. Waters, and consideration for approval of state ANS management plans. The agenda and other related meeting information are on the ANS Task Force Web site at: http://anstaskforce.gov/meetings.php.

Dated: September 29, 2009.
Jeffrey Underwood,
Acting Co-Chair, Aquatic Nuisance Species Task Force, Deputy Assistant Director—Fisheries & Habitat Conservation.

[FR Doc. E9-24333 Filed 10-7-09; 8:45 am]

BILLING CODE 4310-55-P